DEPARTMENT OF ENERGY

Federal Energy Regulatory Commission

[Project No. 13685-000]

Mr. Howard Rosenfeld; Notice of Preliminary Permit Application Accepted for Filing and Soliciting Comments, Motions To Intervene, and Competing Applications

April 6, 2010.

On March 22, 2010, Mr. Howard Rosenfeld filed an application, pursuant to section 4(f) of the Federal Power Act, for a preliminary permit to study the feasibility of the Warren Energy Independence Hydroelectic Project (Warren Project), to be located on Sucker Brook (a.k.a. Lake Waramaug Brook) in Litchfield County, Connecticut.

Some of the features of the proposed Warren Project would be new and located on residential property owned by the applicant, and some of the project works would include properties owned by the Town of Warren, Connecticut, such as an existing dam, intake, and water conveyance structures. The proposed project would consist of: (1) An existing 80-foot-long, 4-foot-wide, and 5-foot-high masonry dam; (2) an existing 48-inch square sluice gate structure feeding into; (3) a new 18-inch-diameter, approximately 535-foot-long penstock leading to; (4) an existing 25-foot-high, 22-foot-square stone-masonry building to house; (5) a new turbine generator unit, with a maximum hydraulic capacity of 5 cubic feet per second (cfs) and total installed generating capacity of 10 kilowatts (kW); (6) a new approximately 400-foot-long, 3.4 kilovolt (kV) transmission line, which would connect with the existing 23 kV distribution line owned by Connecticut Power & Light and adjacent to the applicant's property; and (7) appurtenant facilities. The Warren Project would have an estimated average annual generation of 50,000 kilowatt-hours (kWh), which would be used by the applicant on-site or distributed to the power grid and sold directly to a local utility.

Applicant Contact: Mr. Howard Rosenfeld, 10 Town Hill Road, Warren, Connecticut 06754, (860) 868-8087, xmotifs@gmail.com.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://­www.ferc.gov/filing-comments.asp. More information about this project can be viewed or printed on the “eLibrary” link of Commission's Web site at http://­www.ferc.gov/docs-filing/elibrary.asp. Enter the docket number (P-13685) in the docket number field to access the document. For assistance, call toll-free 1-866-208-3372.

Kimberly D. Bose,
Secretary.

[FR Doc. 2010-8353 Filed 4-12-10; 8:45 am]

BILLING CODE 6717-01-P